ENVIRONMENTAL PROTECTION AGENCY

[CERCLA-03-2025-0022CR; FRL 12511-01-R3]

Proposed CERCLA Cost Recovery Settlement for the A.I.W. Frank/Mid-County Mustang Site, Exton, Chester County, Pennsylvania

AGENCY: Environmental Protection Agency (EPA).

ACTION: Notice; request for comment.

SUMMARY: In accordance with section 122(h) of the Comprehensive Environmental Response, Compensation, and Liability Act of 1980 (CERCLA), notice is hereby given by the U.S. Environmental Protection Agency (EPA), Region 3, of a proposed cost recovery settlement agreement (Settlement) pursuant to CERCLA with U.S. Home, LLC, d/b/a Lennar, and B&J Excavating, Inc. (Settling Parties) relating to the A.I.W. Frank/Mid-County Mustang Superfund Site (Site), located in Exton, Chester County, Pennsylvania.

DATES: Written comments must be received on or before January 22, 2025.

ADDRESSES: Requests for copies of the proposed Settlement and submission of comments must be via electronic mail to R3_ORC_Mailbox@epa.gov. Comments should reference the A.I.W. Frank/Mid-County Mustang Superfund Site, Exton, Chester County, Pennsylvania, Index No. CERCLA-03-2025-0022CR. For those unable to communicate via electronic mail, please contact the EPA employee identified below.

FOR FURTHER INFORMATION CONTACT: Christopher Minott, Assistant Regional Counsel, CERCLA Branch 1, U.S. Environmental Protection Agency, Region 3, 1600 John F. Kennedy Blvd., Philadelphia, PA 19103. Email: minott.christopher@epa.gov. Telephone: 215-814-2484.

SUPPLEMENTARY INFORMATION: The Settling Parties will pay to the EPA $178,818.46, plus interest on this total amount calculated from the date of the EPA' demand letters to the Settling Parties through the date of payment. The Settlement includes a covenant by the EPA not to sue or to take administrative action against Settling Parties pursuant to Section 107(a) of CERCLA, 42 U.S.C. 9607(a), with regard to the EPA's past response costs as provided in the Settlement. For thirty (30) days following the date of publication of this notice, the EPA will receive written comments relating to the proposed Settlement. The EPA will consider all comments received and may modify or withdraw its consent to the proposed Settlement if comments received disclose facts or considerations that indicate that the proposed Settlement is inappropriate, improper, or inadequate.

The EPA's response to any comments received will be available for public inspection by request. Please see the ADDRESSES section of this document for instructions.

Paul Leonard,
Director, Superfund & Emergency Management Division, U.S. Environmental Protection Agency, Region 3.

[FR Doc. 2024-30748 Filed 12-20-24; 8:45 am]

BILLING CODE 6560-50-P